DEPARTMENT OF TRANSPORTATION

Surface Transportation Board

[STB Finance Docket No. 35087]

Canadian National Railway Company and Grand Trunk Corporation—Control—EJ&E West Company

AGENCY: Surface Transportation Board.

ACTION: Notice of Correction to the Final Scope of Study for the Environmental Impact Statement (EIS).

SUMMARY: The Section of Environmental Analysis (SEA) issued the Final Scope of Study in the above-captioned proceeding on April 25, 2008 and published the Final Scope of Study in the Federal Register on April 28, 2008. It has come to our attention that a statement on page 7 of the Final Scope is confusing and open to various interpretations.

Therefore, we will strike this language:

Thus, the EIS will use a five-year threshold from the date of the anticipated year of the issuance of a final decision (2015) for analysis of effects of increased rail traffic, such as vehicle delay. This year was selected because five years is not too long to produce reasonable and reliable freight rail forecasts.

And replace it with:

Thus, the EIS will use a year 2015 threshold for analysis of effects of increased rail traffic, such as vehicle delay. This year was selected because it would provide at least five years of data to be considered in order to produce reasonable and reliable freight rail forecasts.

Please correct your copies accordingly. A corrected version of the Final Scope is available on the Board's Web site at http://www.stb.dot.gov.

Decided: April 28, 2008.
By the Board, Victoria Rutson, Chief, Section of Environmental Analysis.
Anne K. Quinlan,
Acting Secretary.

[FR Doc. E8-9834 Filed 5-2-08; 8:45 am]

BILLING CODE 4915-01-P